DEPARTMENT OF COMMERCE

National Oceanic and Atmospheric Administration

RIN 0648-XD436

New England and Mid-Atlantic Fishery Management Councils; Public Comment

AGENCY: National Marine Fisheries Service (NMFS), National Oceanic and Atmospheric Administration (NOAA), Commerce.

ACTION: Notice; request for comments.

SUMMARY: The New England and Mid-Atlantic Fishery Management Councils, in cooperation with the NMFS Greater Atlantic Regional Fisheries Office, seek public comment on a draft amendment to all the fishery management plans under their purview. The omnibus amendment would modify provisions limiting changes to vessel size and horsepower specifications in limited access fleets.

DATES: Comments must be received by September 22, 2014.

ADDRESSES: You may submit written comments by any of the following methods.

• Email: nmfs.gar.baseline@noaa.gov. Include in the subject line “Comments on draft Baseline Amendment.”

• Mail: John K. Bullard, Regional Administrator, NMFS, Greater Atlantic Regional Fisheries Office, 55 Great Republic Drive, Gloucester, MA 01930. Mark the outside of the envelope “Comments on draft Baseline Amendment.”

• Fax: (978) 281-9135.

Copies of the draft amendment may be obtained by contacting the NMFS Greater Atlantic Regional Fisheries Office at the above address. The documents are also available via the internet at: www.greateratlantic.fisheries.noaa.gov.

FOR FURTHER INFORMATION CONTACT: Melissa Hooper, Fishery Policy Analyst, (978) 281-9166.

SUPPLEMENTARY INFORMATION: Fishing vessel baseline specifications and upgrade restrictions have been used as a tool in Northeast limited access fisheries to promote conservation of fish species by limiting potential increases in the harvest capacity of the fleet. To reduce fishing mortality and fishing effort, the New England and Mid-Atlantic Fishery Management Councils have used various effort controls, such as limits on the amount of time (numbers of days-at-sea (DAS)) that can be fished, trip limits, state-by-state quota allocations, and moratoria on issuance of new permits. Vessel upgrade restrictions were intended to control the potential increase in effort and catch that could occur if an individual vessel increased in size or horsepower and, therefore, was able to catch more fish for a given amount of effort. For example, if a vessel were able to land more fish per DAS fished because of an increased size or horsepower, it could undermine the purpose of matching the total DAS allocation to a target total allowable catch. In the case of hard quotas, a vessel's catch rate per trip could increase because of an upgrade to its size or horsepower, accelerating the rate the quota is taken and increasing the race to fish. A permit's “baseline vessel” was generally the vessel that was first issued the limited access permit for the fishery. The specifications of this first permitted vessel (length, horsepower, gross tonnage, and net tonnage) became the permit's “baseline specifications” and restrictions were placed on how much a future vessel holding the permit could deviate from these specifications. In this way, baseline specifications and upgrade restrictions limit potential future increases in harvest capacity and prevent them from undermining other management measures targeted at controlling fishing mortality. However, since the time baseline specifications were adopted, many fisheries have implemented other effort controls and annual catch limits (ACLs), which restrict effort and put a cap on total harvest. In addition, replacement and upgrade restrictions can be a costly and time-consuming administrative burden for both the industry and NMFS.

In light of these circumstances, the New England and Mid-Atlantic Fishery Management Councils, in cooperation with the NMFS Greater Atlantic Regional Fisheries Office, have developed the Omnibus Amendment to Simplify Vessel Baselines. The objective of this amendment is to eliminate certain baseline restrictions to reduce the administrative and cost burden to industry and NMFS, while maintaining the benefits to conservation and fleet diversity that baseline measures provide. This action would apply to all limited access fisheries within the Councils' jurisdiction: The Atlantic Herring Fishery Management Plan (FMP); the Atlantic Sea Scallop FMP; the Atlantic Deep-Sea Red Crab FMP; the Mackerel, Squid, and Butterfish FMP; the Monkfish FMP; the Northeast Multispecies FMP; the Summer Flounder, Scup, and Black Sea Bass FMP; the Surfclam and Ocean Quahog FMP; and the Tilefish FMP. The Baseline Amendment considers alternatives to (1) maintain the status quo baseline regulations; (2) eliminate the one-time limit on vessel upgrades; (3) eliminate gross and net tonnages from vessel baselines; and (4) eliminate both the one-time limit on vessel upgrades and tonnage specifications. Under all of the alternatives, the 10-percent limit on vessel size upgrades and 20-percent of vessel horsepower upgrades would remain.

The Councils considered adding alternatives that would make more substantial changes to baseline regulations or eliminate them entirely. However, the Councils opted to keep this action limited in scope in order to expedite its implementation. The Councils are currently discussing initiating another omnibus amendment that would consider more substantial changes for a future fishing year and where that action would fall among the Councils' priorities.

The Councils selected Alternative 4 to eliminate the restrictions on both the one-time limit on vessel upgrades and tonnage specifications as their preferred alternative in this action. NMFS and the Councils will consider all comments received on the draft baseline amendment and the alternatives for incorporation into the final document until the end of the comment period on September 22, 2014. The public will have several additional opportunities to comment on the amendment. The final amendment will be considered for approval by the Councils at public meetings in late 2014. Once submitted to NMFS, the final Baseline Amendment will be made available for public review and comment, and regulations will be proposed for review and comment.

Authority: 16 U.S.C. 1801 et seq.

Dated: August 18, 2014
Alan D. Risenhoover,
Director, Office of Sustainable Fisheries, National Marine Fisheries Service.

[FR Doc. 2014-19843 Filed 8-20-14; 8:45 am]

BILLING CODE 3510-22-P